DEPARTMENT OF COMMERCE

National Oceanic and Atmospheric Administration

[0648-XA008]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Northeast Trawl Advisory Panel (NTAP) will hold a meeting.

DATES: The meeting will be held on January 31, 2020, beginning at 9 a.m. and conclude by 1 p.m. For agenda details, see SUPPLEMENTARY INFORMATION.

ADDRESSES: This will be a webinar meeting. Details for the webinar will be posted on MAFMC NTAP web page http://www.mafmc.org/ntap.

Council address: Mid-Atlantic Fishery Management Council, 800 N State Street, Suite 201, Dover, DE 19901; telephone: (302) 674-2331 or on their website at www.mafmc.org.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The purpose of the meeting is for the NTAP to (1) Review remaining analyses of data from 2019 Karen Elizabeth wingspread experiment, (2) Evaluate/review implications of analytic results of wingspread experiment for 2020 field experiment plans. (3) Discuss other relevant business.

Special Accommodations

The meeting is physically accessible to people with disabilities. Requests for sign language interpretation or other auxiliary aid should be directed to M. Jan Saunders, (302) 526-5251, at least 5 days prior to the meeting date.

Authority: 16 U.S.C. 1801 et seq.

Dated: January 7, 2020.
Karyl K. Brewster-Geisz,
Acting Director, Office of Sustainable Fisheries, National Marine Fisheries Service.

[FR Doc. 2020-00276 Filed 1-10-20; 8:45 am]

BILLING CODE 3510-22-P